DEPARTMENT OF TRANSPORTATION

Federal Highway Administration

Environmental Impact Statement: Sussex County, Delaware

AGENCIES: Federal Highway Administration (FHWA) and the Delaware Department of Transportation (DelDOT).

ACTION: Notice of Intent.

SUMMARY: The FHWA is issuing this notice to advise the public that an Environmental Impact Statement (EIS) will be prepared for a proposed highway improvement project in eastern Sussex County, Delaware.

FOR FURTHER INFORMATION CONTACT: Mr. Robert F. Kleinburd, Realty and Environmental Program Manager, Federal Highway Administration, Delaware Division, J. Allen Frear Federal Building, 300 South New Street, Room 2101, Dover, DE 19904; Telephone: (302) 734-2966; or Mr. Donald Plows, P.E., Project Manager, Delaware Department of Transportation, 800 Bay Road, P.O. Box 778, Dover, DE 19903; Telephone: (302) 760-2524. DelDOT Public Relations office (800) 652-5600 (in DE only) or (302) 760-2080.

SUPPLEMENTARY INFORMATION: The Federal Highway Administration (FHWA), in cooperation with the Delaware Department of Transportation (DelDOT), will prepare an Environmental Impact Statement (EIS) to consider additional north-south capacity either as a new facility on new alignment or widened existing facility, west of Coastal Highway (SR 1). The project study limits are generally bound by Old Landing Road (CR 274) to the south, Red Mill Pond at SR 1 to the north, SR 1 to the east and Love Creek to the west. Access limitations will be considered during the course of the study. Because of the potential for a new alignment alternative, access restrictions and the resulting potential for significant impacts on the human and natural environment, the FHWA has determined that an EIS is the appropriate documentation for any corridor changes that may be selected.

The study of transportation changes in eastern Sussex County was introduced in the DelDOT sponsored State Route 1 Grid Study, 1999. As part of the Phase I recommendations, a network of secondary road connections was proposed. As part of the State Route 1 Grid Study, Phase II, a recommendation to create a new roadway connection between SR 1 west of Five Points, south to Route 9 was made. The new roadway connection was proposed to meet one of the new secondary road connections of the Phase I study, creating a new roadway corridor west of Plantation Road from Route 1 north of Five Points to south of Old Landing Road.

Subsequent to the SR 1 Grid Study, DelDOT and Sussex County jointly conducted the SR 1 Land Use & Transportation Study (LUTS), August 2003. The stated objective of this study was “* * * to effectively address joint interests in the transportation systems and land use for the Rehoboth/Lewes area.” The SR 1 LUTS overall objectives were to increase the mobility of area residents by developing alternative roadway links and connections; provide a variety of ways to travel; reduce congestion; improve safety, maintain the character of the study area, and gain public acceptance of the study recommendations. The centerpiece long-term recommendation of the SR 1 LUTS was a new controlled access parkway west of Route 1 that would run from northwest of Five Points to Country Club Road (CR 273).

A program of public involvement and coordination with Federal, State, and local agencies has been initiated. Both agency and public involvement will continue throughout project development. Comments are being solicited from appropriate Federal, State, and local agencies, and to private organizations and citizens who have previously expressed or are known to have interest in this proposal. Public scoping meetings will be held. Additional informational meetings will be scheduled during the course of the study. In addition, a formal public hearing will be held after the draft EIS has been prepared. Public notice will be given of the time and place of the scoping meetings, and the formal public hearing. The draft EIS will be available for public and agency review and comment prior to the public hearing on the draft EIS.

To ensure that the full range of issues related to this proposed action are addressed and all significant issues identified, comments, and suggestions are invited from all interested parties. Comments or questions concerning this proposed action and the EIS should be directed to the FHWA or DelDOT at the addresses provided above.

(Catalog of Federal Domestic Assistance Program Number 20.205, Highway Planning and Construction. The regulations implementing Executive Order 12372 regarding intergovernmental consultation on Federal programs and activities apply to this program)

Issued by: June 29, 2005.
Raymond J. McCormick,
Division Administrator, Federal Highway Administration, Dover, Delaware.

[FR Doc. 05-13240 Filed 7-5-05; 8:45 am]

BILLING CODE 4910-22-P